DEPARTMENT OF ENERGY

Federal Energy Regulatory Commission

Combined Notice of Filings #1

Take notice that the Commission received the following electric corporate filings:

Docket Numbers: EC12-117-000.

Applicants: Mission Funding Alpha.

Description: Application for Authorization for Disposition of Jurisdictional Facilities and Request for Expedited Action of Mission Funding Alpha.

Filed Date: 7/13/12.

Accession Number: 20120713-5194.

Comments Due: 5 p.m. ET 8/3/12.

Take notice that the Commission received the following exempt wholesale generator filings:

Docket Numbers: EG12-87-000.

Applicants: Los Vientos Windpower IA, LLC.

Description: Self-Certification of Exempt Wholesale Generator of Los Vientos Windpower IA, LLC.

Filed Date: 7/13/12.

Accession Number: 20120713-5139.

Comments Due: 5 p.m. ET 8/3/12.

Docket Numbers: EG12-88-000.

Applicants: Los Vientos Windpower IB, LLC.

Description: Self-Certification of Exempt Wholesale Generator Status of Los Vientos Windpower IB, LLC.

Filed Date: 7/13/12.

Accession Number: 20120713-5140.

Comments Due: 5 p.m. ET 8/3/12.

Take notice that the Commission received the following electric rate filings:

Docket Numbers: ER12-2002-001.

Applicants: PJM Interconnection, L.L.C.

Description: Errata to Original Service Agreement No. 3327 Queue Position T126 to be effective 5/11/2012.

Filed Date: 7/13/12.

Accession Number: 20120713-5171.

Comments Due: 5 p.m. ET 8/3/12.

Docket Numbers: ER12-2241-000.

Applicants: Carolina Power & Light Company.

Description: Service Agreement No. 134 under Carolina Power and Light Company Joint OATT to be effective 7/1/2012.

Filed Date: 7/13/12.

Accession Number: 20120713-5151.

Comments Due: 5 p.m. ET 8/3/12.

Docket Numbers: ER12-2242-000.

Applicants: Midwest Independent Transmission System Operator, Inc.

Description: SA 2455 DEGS Wind-METC J056 GIA 7-13-2012 to be effective 7/14/2012.

Filed Date: 7/13/12.

Accession Number: 20120713-5173.

Comments Due: 5 p.m. ET 8/3/12.

Docket Numbers: ER12-2243-000.

Applicants: PJM Interconnection, L.L.C.

Description: PJM Interconnection, L.L.C. submits Notice of Cancellation.

Filed Date: 7/13/12.

Accession Number: 20120713-5179.

Comments Due: 5 p.m. ET 8/3/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2012.
Nathaniel J. Davis, Sr.,
Deputy Secretary.

[FR Doc. 2012-17821 Filed 7-20-12; 8:45 am]

BILLING CODE 6717-01-P